DEPARTMENT OF ENERGY

Federal Energy Regulatory Commission

[Project No. 13625-000]

Lock+™ Hydro Friends Fund XXX, LLC; Notice of Preliminary Permit Application Accepted for Filing and Soliciting Comments, Motions To Intervene, and Competing Applications

January 6, 2010.

On November 13, 2009, Lock+™ Hydro Friends Fund XXX, LLC filed an application, pursuant to Section 4(f) of the Federal Power Act, proposing to study the feasibility of Project Green Dream (Project No. 13625), to be located at the New Cumberland Locks and Dam on the Ohio River, in Hancock County, West Virginia. The New Cumberland Locks and Dam are owned and operated by the U.S. Army Corps of Engineers.

Project Green Dream would include new facilities adjacent to the eastern end of the New Cumberland Locks and Dam. The proposed project would consist of: (1) One new approximately 450-foot-long, 220-foot-wide conduit; (2) two new approximately 109-foot-wide, 40-foot-tall lock frame modules, containing nine turbines each, with a total installed capacity of 36 megawatts; (3) new flow control doors; (4) a new tailrace; (5) a new switchyard, transformer, and control room; (6) a new approximately 1,000-foot-long, 36.7-kilovolt transmission line from the turbines to the new switchyard, and a new approximately 2,000-foot-long, 69-kilovolt transmission line from the new switchyard to an existing distribution line; (7) and appurtenant facilities. The project would have an estimated annual generation of 284,018 megawatt-hours.

Applicant Contact: Wayne F. Krouse, Lock+™ Hydro Friends Fund XXX, LLC, 5090 Richmond Avenue #390, Houston, TX 77056, (877) 556-6566 (ext. 709).

FERC Contact: Brandon Cherry, (202) 502-8328.

Deadline for filing comments, motions to intervene, competing applications (without notices of intent), or notices of intent to file competing application: 60 days from the issuance of this notice. Comments, motions to intervene, notices of intent, and competing applications may be filed electronically via the Internet. See 18 CFR 385.2001(a)(1)(iii) and the instructions on the Commission's Web site under the “eFiling” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp.

More information about this project can be viewed or printed on the “eLibrary” link of Commission's Web site at http://www.ferc.gov/docs-filing/elibrary.asp. Enter the docket number (P-13625) in the docket number field to access the document. For assistance, call toll-free 1-866-208-3372.

Kimberly D. Bose,
Secretary.

[FR Doc. 2010-526 Filed 1-13-10; 8:45 am]

BILLING CODE 6717-01-P